DEPARTMENT OF AGRICULTURE

Forest Service

Black Hills National Forest, Northern Hills Ranger District, South Dakota, Nautilus Project

AGENCY: Forest Service, USDA.

ACTION: Notice of intent to prepare an environmental impact statement.

SUMMARY: The Forest Service will prepare an environmental impact statement on a proposal to implement multiple resource management actions within the Nautilus Project area to implement the amended Black Hills National Forest Land and Resource Management Plan. The Nautilus Project area covers approximately 41,302 acres of National Forest System land and approximately 5,699 acres of interspersed private land northwest of Rapid City, South Dakota. Mountain pine beetle infestations are present within and adjacent to the project area. Therefore, the Nautilus environmental impact statement will be analyzed under the provisions of Title IV of the Healthy Forests Restoration Act. Proposed actions include a combination of vegetation and fuels treatments to reduce mountain pine beetle susceptibility, reduce fire hazard, improve watershed conditions, provide for a diversity of wildlife habitat, and provide for research forestry opportunities. The proposed action includes approximately 7,157 acres of commercial thinning, 7,311 acres of overstory removal, 10,954 acres of precommercial thinning, 2,134 acres of commercial seed cuts, 191 acres of group selection, 466 acres of individual tree selection, 764 acres of hardwood enhancement, 206 acres of meadow enhancement, 836 acres of old growth management, 354 acres of product-other-than-log thinning, and 411 acres of stand-alone prescribed burning, in addition, approximately 30,629 acres will be analyzed for prescribed burning following timber harvest although it is expected that approximately 10,000 acres of that total will actually be burned over a 10-15 year period. Approximately 15 miles of new road construction would be necessary to carry out the proposed vegetation management actions.

DATES: Comments concerning the scope of the analysis are requested by December 21, 2009. The draft environmental impact statement is expected to be available April 2010 and the final environmental impact statement is expected to be completed by July 2010.

ADDRESSES: Send written comments to: Rhonda O'Byrne, District Ranger, Northern Hills Ranger District, 2014 North Main Street, Spearfish, SD 57783. Telephone number: (605) 642-4622. e-mail: comments-rocky-mountain-black-hills-northern-hills@fs.fed.us with “Nautilus Project” as the subject.

FOR FURTHER INFORMATION CONTACT: Chris Stores, Assistant NEPA Planner, Northern Hills Ranger District, 2014 North Main Street, Spearfish, SD 57783. Telephone number: (605) 642-4622.

SUPPLEMENTARY INFORMATION:

Purpose of and Need for Action

The purpose of and need for the actions proposed in the Nautilus project area is to reduce mountain pine beetle susceptibility, reduce fire hazard, improve watershed conditions, provide for a diversity of wildlife habitat, and provide for research forestry opportunities. All actions are intended to move toward or achieve related Forest Plan Goals and Objectives, consistent with Forest Plan Standards and Guidelines.

Proposed Action

Proposed actions include the following:

Reduce acres at high or medium susceptibility to mountain pine beetle by thinning stands and changing stand structure. Commercial and non-commercial (including prescribed burning) methods may be used.

Reduce the acres at moderate-to-high fire hazard by thinning stands to decrease crown proximity and by reducing fuel accumulations. Thinning may use commercial or non-commercial methods. Fuel reduction treatments could include lopping, chipping, crushing, piling and burning, construction of fuel breaks, and broadcast prescribed burning.

Improve watershed conditions through road closure, meadow enhancement, hardwood enhancement and mitigation of connected disturbed areas.

Provide for a diversity of wildlife habitat through meadow enhancement, hardwood enhancement, seasonal road closures, and patch clear cuts to create open browsing areas.

Provide for opportunities to conduct research forestry in the Black Hills Experimental Forest. Proposed treatments to implement research objectives over the next 10-15 years designed to examine the effectiveness of timber management techniques not typically conducted on the Black Hills National Forest.

Road construction and maintenance activities necessary to access areas proposed for timber harvest. New roads would be closed following harvest and existing roads that are not in the National Forest System could also be closed in conjunction with this project.

The Forest Service is the sole responsible agency for this project; no cooperators are participating in project planning.

Responsible Official

Rhonda O'Byrne, District Ranger, Northern Hills Ranger District, 2014 North Main Street, Spearfish, SD 57783.

Nature of Decision To Be Made

The decision to be made is whether or not to approve the proposed action or alternatives at this time. No Forest Plan amendments are proposed.

Scoping Process

Comments and input regarding the proposed action are being requested from the public and other interested parties in conjunction with this notice of intent. The comment period will be open for thirty days, beginning on the date of publication of this notice of intent. An open house to gather comments from local individuals and groups will be held on December 2, 2009 at 5:30 PM MST at the Community Hall in Nemo, SD. Also, response to the draft EIS will be sought from the interested public beginning approximately in April 2010.

Comment Requested

This notice of intent initiates the scoping process which guides the development of the environmental impact statement. It is our desire to involve interested parties and especially adjacent landowners in identifying the issues related to proposed activities. Comments will assist in identification of key issues and opportunities to develop project alternatives and mitigation measures.

Early Notice of Importance of Public Participation in Subsequent Environmental Review: A draft environmental impact statement will be prepared for comment. The comment period on the draft environmental impact statement will be 45 days (beginning in April 2010) from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Hanis, 490 F. Supp. 1334, 1338 (E.D. Wis. 1980)). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection (40 CFR 1501.7 and 1508.22; Forest Service Handbook 1909.15, Section 21).

Dated: November 17, 2009.
Craig Bobzien,
Forest Supervisor, Black Hills National Forest.

[FR Doc. E9-28091 Filed 11-23-09; 8:45 am]

BILLING CODE 3410-11-M